ENVIRONMENTAL PROTECTION AGENCY

[FRL-7612-6]

Proposed Administrative Cashout Deminimis Settlement Under Section 122(g) of the Comprehensive Environmental Response Compensation and Liability Act

AGENCY: Environmental Protection Agency (EPA).

ACTION: Notice; request for public comment for the NL Industries (Taracorp) Site.

SUMMARY: In accordance with section 122(i) of the Comprehensive Environmental Response, Compensation, and Liability Act, as amended (“CERCLA”), 42 U.S.C. 9622(i), notice is hereby given of a proposed administrative settlement for recovery of past and projected future response costs concerning the NL Industries (Taracorp) Site, with the total of 78 settling parties listed in the Supplementary Information portion of this notice. The settlement requires the settling parties to pay $1,960,888.51 to the Hazardous Substance Superfund.

The total cost of the cleanup is approximately $63 million. This number is the sum of EPA's past costs of approximately $43 million, plus costs incurred by certain potentially responsible parties of approximately $20 million. For purposes of settlement, site costs have been allocated approximately 50% to generators and 50% to owner/operators. Since all deminimis parties are generators, the deminimis percentage share of site costs is based on fifty percent of total site costs, or $30 million. Total future site costs were assigned a premium of 20%. Payment amounts for each deminimis generator's percentage share of volume contributed to the site.

Under the terms of the settlement, the deminimis generators who sign the Consent Order agree to pay their respective settlement amounts. In exchange for those payments, the United States covenants not to sue or take administrative action pursuant to sections 106 and 107(a) of CERCLA, 42 U.S.C. 9609 and 9607(a), relating to the Site. In addition, participating deminimis generators will be entitled to protection from contribution action or claims as provided by sections 113(f) and 122(g)(5) of CERCLA, 42 U.S.C. 9613(f) and 9622(g)(5), for all response costs incurred and to be incurred by any person at the Site.

For thirty (30) days following the date of publication of this notice, the Agency will accept written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604.

DATES: Comments must be submitted on or before February 25, 2004.

ADDRESSES: The proposed settlement is available for public inspection at EPA's Record Center, 7th floor, 77 W. Jackson Blvd., Chicago, Illinois 60604. A copy of the proposed settlement may be obtained from Larry L. Johnson, Associate Regional Counsel, U.S. EPA, Mail Code C-14J, 77 W. Jackson Blvd., Chicago, Illinois 60604, telephone (312) 886-6609. Comments should reference the NL Industries (Taracorp) Site, and should be addressed to Larry L. Johnson, Associate Regional Counsel, U.S. EPA, Mail Code C-14J, 77 W. Jackson Blvd., Chicago, Illinois 60604.

FOR FURTHER INFORMATION CONTACT: Larry L. Johnson, Associate Regional Counsel, U.S. EPA, Mail Code C-14J, 77 W. Jackson Blvd., Chicago, Illinois 60604, telephone 312-886-6609.

SUPPLEMENTARY INFORMATION: The following is a list of the settling deminimis generators:

1. Mayfield Manufacturing Company f/k/a 3-H Industries

2. A. Edelstein & Sons

3. A.O. Smith Corporation

4. Ace Comb Company

5. Acme Iron & Metal Co.

6. Acro Sales & Engineering

7. Allied Metal Company

8. Amax Inc./Amax Lead & Zinc a/k/a Cyprus Amax Minerals Company

9. American National Can Company

10. Baker Iron & Metal

11. Ball Metal & Chemical

12. Barter Machinery & Supply Company

13. Ben Greenberg Company

14. Bill's Auto Parts

15. C.L. Downey Company

16. Braschnewitz Corp. n/k/a CNC Industries, Inc.

17. Cerro Copper Products Co.

18. Daimler-Chrysler Corporation

19. Crown Beverage Packaging, Inc. a/k/a Continental Can Company

20. Delhi Battery & Supply Co, Inc.

21. Douglas Battery Manufacturing Comp.

22. Dumes, Inc.

23. Elden R. Erikson & Sons, Inc.

24. Electro Battery Manufacturing Co.

25. Farmland Industries

26. Fisher Steel & Supply Co.

27. G & M Scrap Metal

28. Grossman Iron & Steel Company

29. Herman Strauss, Inc.

30. Houston Salvage

31. Industrial Electrical Equipment Co.

32. Intra-American Metals

33. J. Trockman & Sons

34. L. Kahn & Sons f/k/a L. Kahn & Son

35. La Salle Steel Company

36. Lear Corporation EEDS & Interiors f/k/a Bryan Manufacturing

37. Lewis Salvage Co.

38. M. Katch & Co. Inc.

39. McGraw Edison Company

40. Mallin Brothers Company

41. Marco Steel Supply

42. Martin Brothers Mill & Foundry Supply

43. McKinley Iron, Inc.

44. Miller Compressing Company

45. Milwaukee Scrap Metal Co.

46. Modine Manufacturing

47. Morris Tick Company

48. Northbrook Sports Club

49. Qwest f/k/a Northwestern Bell Telephone Company

50. Olin Corporation

51. Parks Pioneer Company, LLC f/k/a Parks Iron & Metal

52. The Peltz Group, Inc. f/k/a Peltz Brothers

53. Pequea Battery Company

54. General Mills, Inc./The Pillsbury Company a/k/a Pet, Inc.

55. Schering—Plough Healthcare Products, Inc. f/k/a Plough, Inc.

56. Newman/Allen Enterprises, Inc. f/k/a Sam Allen & Son, Inc.

57. College of the Ozarks f/k/a School of the Ozarks

58. Schuster Metals, Inc.

59. Senser Metal Company

60. Shapiro Sales Company

61. Shostak Iron & Metal Co., Inc.

62. Slesnick Iron & Metal

63. Southwestern Bell Telephone Company

64. Stewart-Warner Corp.

65. Omni Source Corp Foundry f/k/a Superior Companies, Inc.

66. The Board of Trustees of the University of Illinois

67. Versatile Metals

68. Vivo Iron & Metal

69. Wallach Iron & Metal Company

70. Willoughby Iron & Waste Material Co. $21,639.60

71. Westinghouse Air Brake Technologies Corporation—Wabtec f/k/a—Young Radiator Company

72. Parkans International, Inc.

73. Sherwin—Williams

74. Rankin Technical Institute

75. Crown Cork & Seal Corporation

Settling Federal Agencies

1. General Services Administration

2. Department of Energy (Stanford Linear Accelerator)

3. Bureau of Prisons (Unicor Federal Prison Industries, Inc.)

Dated: January 9, 2004.
Wendy L. Carney,
Acting Director, Superfund Division.

[FR Doc. 04-1546 Filed 1-23-04; 8:45 am]

BILLING CODE 6560-50-P